DEPARTMENT OF COMMERCE

International Trade Administration

[A-588-854]

Certain Tin Mill Products From Japan: Final Results of Changed Circumstances Review

AGENCY: Import Administration, International Trade Administration, U.S. Department of Commerce.

ACTION: Final results of changed circumstances review.

SUMMARY: On May 29, 2001, the Department of Commerce (“the Department”) published a notice of initiation of a changed circumstances review for a partial revocation of the antidumping duty order on tin mill products from Japan with respect to the merchandise described below at the request of Weirton Steel and the Independent Steelworkers Union, interested parties in this proceeding. See Certain Tin Mill Products from Japan: Notice of Initiation of Changed Circumstances Review of the Antidumping Duty Order, 66 FR 29086 (May 29, 2001). On August 8, 2001, the Department published the preliminary results of the changed circumstances review and preliminarily determined that several interested parties are interested in the maintenance of the order with respect to the merchandise described below, and that there was no reasonable basis to believe that changed circumstances sufficient to warrant revocation exist. See Certain Tin Mill Products from Japan: Preliminary Results of Changed Circumstances Review, 66 FR 41550 (August 8, 2001). In our preliminary results we gave interested parties an opportunity to comment; however, we did not receive any comments. We are unable to determine that producers accounting for substantially all of the production of the domestic like product have expressed lack of interest in the product in question. Thus we determine that changed circumstances do not exist to warrant revocation of the order in part.

EFFECTIVE DATE: October 12, 2001.

FOR FURTHER INFORMATION CONTACT: Michael Ferrier or Steve Bezirganian, Import Administration, International Trade Administration, U.S. Department of Commerce, 14th Street and Constitution Avenue, NW, Washington, DC 20230; telephone (202) 482-1394 or (202) 482-1131, respectively.

SUPPLEMENTARY INFORMATION:

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to the regulations at 19 CFR part 351 (2001).

Background

On April 6, 2001, Weirton Steel and the Independent Steelworkers Union, petitioners in this proceeding, requested that the Department revoke in part the antidumping duty order on certain tin mill products from Japan. On May 3, 2001, petitioners submitted a change in the definition of the product for which they requested a changed circumstances review. Specifically, petitioners requested that the Department revoke the order with respect to imports of merchandise meeting the following specifications: double reduced (CADR8 temper) electrolytically chromium coated steel with chromium oxide at a level of 1.6 mg/sq. ft. (#0.9), having a base box weight of 60 pounds (nominal thickness of 0.0066 inch (#5% tolerance)), and a surface with a 7C stone finish, lubricated with butyl stearate oil (BSO) or dioctyl sebacate oil (DOS) with the level ranging from 0.22 to 0.32 gm/base box. The material is 31½ inches in actual width −0/+1/16 inch width tolerance) and made from fully deoxidized (killed) continuous cast and continuous annealed steel that is free of detrimental non-metallic inclusions (i.e., clean steel) with earring hazard minimized. The maximum edge wave is ⅛ inch, with crossbow controllable to less than 2 inches per sheet. The maximum camber per three feet is 0.020 inch, the maximum burr is 0.001 inch, and the maximum pinholes per coil is 0.2%. The maximum coil weight is 25,000 pounds, with an interior coil diameter of 16 inches to 16½ inches, and an exterior coil diameter of 36 inches to 60 inches. When loaded for shipment, the coil is placed on the pallet with the eye of the coil standing vertical, with each side of the pallet being 60 inches having 4 x 4 runners, and outside runners placed a minimum of 37 inches apart.

The merchandise subject to this changed circumstances review is classified in the HTSUS under subheading 7210.50.0000 of non-alloy steel, and under HTSUS subheading 7225.99.0090 if of alloy steel. Although the subheadings are provided for convenience, our written description of the scope is dispositive.

On June 18, 2001, National Steel Corporation (“National”), a producer of tin mill products, stated that it objects to the partial revocation of the antidumping order on certain tin mill products from Japan as proposed by Weirton Steel and the Independent Steelworkers Union. On June 15, 2001, USS-Posco Industries (“UPI”), a domestic producer of tin mill products stated that UPI can produce and has produced the 60-pound double-reduced tin-free steel products and therefore has an interest in maintaining the antidumping order on tin mill products from Japan. Information on the record indicates that both interested parties opposed to the partial revocation accounted for over 15 percent of the domestic production of tin mill products in year 2000.

Scope of Changed Circumstances Review

The merchandise covered by this changed circumstances review is certain double reduced (CADR8 temper) electrolytically chromium coated steel with chromium oxide at a level of 1.6 mg/sq. ft. (#0.9), having a base box weight of 60 pounds (nominal thickness of 0.0066 inch (#5% tolerance)), and a surface with a 7C stone finish, lubricated with butyl stearate oil (BSO) or dioctyl sebacate oil (DOS) with the level ranging from 0.22 to 0.32 gm/base box. The material is 31½ inches in actual width (−0/+1/16 inch width tolerance) and made from fully deoxidized (killed) continuous cast and continuous annealed steel that is free of detrimental non-metallic inclusions (i.e., clean steel) with earring hazard minimized. The maximum edge wave is ⅛ inch, with crossbow controllable to less than 2 inches per sheet. The maximum camber per three feet is 0.020 inch, the maximum burr is 0.001 inch, and the maximum pinholes per coil is 0.2%. The maximum coil weight is 25,000 pounds, with an interior coil diameter of 16 inches to 16½ inches, and an exterior coil diameter of 36 inches to 60 inches. When loaded for shipment, the coil is placed on the pallet with the eye of the coil standing vertical, with each side of the pallet being 60 inches having 4 x 4 runners, and outside runners placed a minimum of 37 inches apart.

Final Results of Changed Circumstances Review

Pursuant to section 751(d) of the Act, the Department may partially revoke an antidumping duty order based on a review under section 751(b) of the Act. Section 782(h)(2) of the Act and section 351.222(g)(1)(i) of the Department's regulations provide that the Secretary may revoke an order, in whole or in part, based on changed circumstances if “(p)roducers accounting for substantially all of the production of the domestic like product to which the order (or the part of the order to be revoked) * * * pertains have expressed a lack of interest in the order, in whole or in part. * * *” In this context, the Department has interpreted “substantially all” production normally to mean at least 85 percent of domestic production of the like product (see Oil Country Tubular Goods From Mexico: Preliminary Results of Changed Circumstances Antidumping Duty Administrative Review, 64 FR 14213, 14214 (March 24, 1999)).

In order to determine whether “substantially all” of the domestic producers supported revocation of the order with respect to the merchandise in question, the Department solicited comments from all parties (see Initiation of Changed Circumstances Review, 66 FR at 29088). Weirton Steel and the Independent Steelworkers Union have not provided evidence that they account for 85 percent of domestic production. The Department received comments from UPI and from National Steel. In fact, information on the record demonstrates that interested parties opposed to the partial revocation collectively account for over 15 percent of the domestic production of tin mill products in 2000. More specifically, National's production of tin mill products for year 2000 exceeds 15 percent. Therefore the Department is maintaining the order on tin mill products from Japan and is continuing to include the product which meets the specifications detailed above in the order on tin mill products from Japan, in accordance with sections 751(b) and (d) of the Act and 19 CFR 351.216.

This notice also serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

This determination is issued and published in accordance with sections 751(b)(1) and 777(i)(1) of the Act and section 351.216 of the Department's regulations.

Dated: October 2, 2001.
Joseph A. Spetrini,
Acting Assistant Secretary for Import Administration.

[FR Doc. 01-25710 Filed 10-11-01; 8:45 am]

BILLING CODE 3510-DS-P